DEPARTMENT OF JUSTICE

Office of Justice Programs

[OJP (NIJ) Docket No. 1717]

Draft Baseline Specifications for Law Enforcement Service Pistols With Security Technology

AGENCY: National Institute of Justice, Justice.

ACTION: Notice and request for comments.

SUMMARY: The National Institute of Justice (NIJ) seeks feedback from the public on a draft document that defines generic baseline specifications for law enforcement service pistols with additional technology to enhance the security of the firearms, published here: http://nij.gov/topics/technology/firearms/pages/welcome.aspx.

DATES: Comments must be received by 5 p.m. Eastern Time on September 13, 2016.

How to Respond and What to Include: The draft baseline specifications document can be found here: http://nij.gov/topics/technology/firearms/pages/welcome.aspx. To submit comments, please send an email to gunsafetytechnology@usdoj.gov. Please indicate the page number, section number, and the line number associated with each comment. Comments may also be provided as a markup of the Word document. Please provide contact information with the submission of comments. Address comments to Mark Greene, Office of Science and Technology, National Institute of Justice.

FOR FURTHER INFORMATION CONTACT: Mark Greene, Office of Science and Technology, National Institute of Justice, 810 7th Street NW., Washington, DC 20531; telephone number: (202) 598-9412; email address: mark.greene2@usdoj.gov.

SUPPLEMENTARY INFORMATION: On April 29, 2016, the U.S. Departments of Justice (DOJ), Homeland Security (DHS), and Defense (DoD) submitted a joint report to the President outlining a strategy to expedite deployment of gun safety technology, found here: https://www.whitehouse.gov/sites/default/files/docs/final_report-smart_gun_report.pdf.

The report was published in response to Presidential Memorandum, Promoting Smart Gun Technology, found here: https://www.whitehouse.gov/the-press-office/2016/01/05/memorandum-promoting-smart-gun-technology. The report described the potential benefits of advanced gun safety technology, but noted that additional work was required before this technology is ready for widespread adoption by law enforcement agencies. In particular, the report stressed the importance of integrating this technology into a firearm's design without compromising the reliability, durability, and accuracy that officers expect from their service weapons.

To address these issues, the report called on law enforcement agencies to develop “baseline specifications,” which would outline the agencies' operational requirements for any firearms equipped with gun safety technology. By developing baseline specifications, federal, state, and municipal law enforcement agencies can make clear to private manufacturers what they expect from this technology.

DOJ and DHS recently assembled a working group of experts in firearms technology to identify operational needs and prepare a draft document that defines generic baseline specifications for law enforcement service pistols with additional technology to enhance the security of firearms. The additional security specifications that may be addressed by smart gun technology are distinguished from more familiar firearm safety mechanisms. The distinction between safety and security can be nuanced, and the additional security specifications may also function as safety features under certain circumstances. However, this distinction forms the basis of the use of the different terminology.

The working group was led by NIJ and was comprised of subject matter experts from various federal law enforcement agencies. The pistols defined by this document are semi-automatic, recoil-operated, magazine-fed, striker-fired, and fire 9 mm Luger or .40 S&W ammunition. The information detailed in this document is informed in part by specifications enumerated in recent handgun solicitations by the Federal Bureau of Investigation (FBI) and Immigration of Customs Enforcement (ICE), which are publicly available on FedBizOpps (http://www.fbo.gov) under solicitation numbers RFP-OSCU-DSU1503 and HSCEMS-16-R-00003, respectively.

Jennifer Scherer,
Deputy Director, National Institute of Justice.

[FR Doc. 2016-16759 Filed 7-14-16; 8:45 am]

BILLING CODE 4410-18-P